ENVIRONMENTAL PROTECTION AGENCY

[EPA-HQ-OPP-2020-0052; FRL-10006-56]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before May 4, 2020.

ADDRESSES: Submit your comments, identified by the docket identification (ID) number and the File Symbol of the EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. File symbols: 432-RARN, 432-RANO and EPA registration numbers: 264-1106, 264-1129. Docket ID number: EPA-HQ-OPP-2020-0045. Applicant: Bayer CropScience. 800 N Lindbergh Blvd. St. Louis, MO 63167. Active ingredient: Indaziflam. Product type: Herbicide. Proposed uses: Crop group 17 (Grass forage, fodder, and Hay group), Sugarcane, cane. Contact: RD.

2. EPA registration number: 5481-646 and 5481-647. Docket ID number: EPA-HQ-OPP-2019-0655. Applicant: AMVAC Chemical Corporation, 4695 MacArthur Court Suite 1200, Newport Beach, CA 92660. Active ingredient: Quizalofop-ethyl. Product type: Herbicide. Proposed use: Fruit, pome, group 11-10; Fruit, stone, group 12-12; Fruit, small, vine-climbing, except fuzzy kiwifruit, subgroup 13-07F; Pennycress; and Carinata; and crop group expansions for Sunflower, subgroup 20B and Cottonseed, subgroup 20C. Contact: RD.

3. File symbol: 7969-402. Docket ID number: EPA-HQ-OPP-2020-0068. Applicant: BASF Corporation, 26 Davis Drive, P.O. Box 13528, Research Triangle Park, North Carolina 27709-3528. Active ingredient: Mefentrifluconazole. Product type: Fungicide. Proposed uses: Berries, Bulb vegetables, Cucurbit vegetables, Cotton, Fruiting vegetables, Grasses, Grass grown for seed, Non-grass forages, Leafy vegetables, Root and tuber vegetables, Oilseeds, and Sugarcane. Contact: RD.

4. File symbol: 7969-406. Docket ID number: EPA-HQ-OPP-2020-0068. Applicant: BASF Corporation, 26 Davis Drive, P.O. Box 13528, Research Triangle Park, North Carolina 27709-3528. Active ingredients: Mefentrifluconazole, Pyraclostrobin, and Fluxapyroxad. Product type: Fungicide. Proposed uses: Cotton, Fruiting vegetables, Grasses, Grass grown for seed, Non-grass forages, Oilseeds, and Sugarcane. Contact: RD.

5. File symbol: 7969-407. Docket ID number: EPA-HQ-OPP-2020-0068. Applicant: BASF Corporation, 26 Davis Drive, P.O. Box 13528, Research Triangle Park, North Carolina 27709-3528. Active ingredient: Mefentrifluconazole. Product type: Fungicide. Proposed uses: Berries, Bulb vegetables, Carrot, Cucurbit vegetables, Fruiting vegetables, Leafy vegetables and Strawberry. Contact: RD.

6. File symbol: 7969-408. Docket ID number: EPA-HQ-OPP-2020-0068. Applicant: BASF Corporation, 26 Davis Drive, P.O. Box 13528, Research Triangle Park, North Carolina 27709-3528. Active ingredient: Mefentrifluconazole. Product type: Fungicide. Proposed uses: Cotton, Grasses, Grass grown for seed, Non-grass forages, Oilseeds, and Sugarcane. Contact: RD.

7. File symbol: 7969-409. Docket ID number: EPA-HQ-OPP-2020-0068. Applicant: BASF Corporation, 26 Davis Drive, P.O. Box 13528, Research Triangle Park, North Carolina 27709-3528. Active ingredients: Mefentrifluconazole and Pyraclostrobin. Product type: Fungicide. Proposed uses: Fruiting vegetables, Grasses, Grass grown for seed, Non-grass forages, Oilseeds, and Sugarcane. Contact: RD.

8. File symbol: 7969-410. Docket ID number: EPA-HQ-OPP-2020-0068. Applicant: BASF Corporation, 26 Davis Drive, P.O. Box 13528, Research Triangle Park, North Carolina 27709-3528. Active ingredients: Mefentrifluconazole and Fluxapyroxad. Product type: Fungicide. Proposed uses: Berries, Bulb vegetables, Carrot, Fruiting vegetables, Grape, Leafy vegetables and Strawberry. Contact: RD.

9. File symbol: 7969-411. Docket ID number: EPA-HQ-OPP-2020-0068. Applicant: BASF Corporation, 26 Davis Drive, P.O. Box 13528, Research Triangle Park, North Carolina 27709-3528. Active ingredients: Mefentrifluconazole, Pyraclostrobin, and Fluxapyroxad. Product type: Fungicide. Proposed uses: Cotton, Fruiting vegetables, Grasses, Grass grown for seed, Non-grass forages, Oilseeds, and Sugarcane. Contact: RD.

10. File symbol: 66222-EIT. Docket ID number: EPA-HQ-OPP-2020-0118. Applicant: Makhteshim Agan of North America, Inc., 3120 Highwoods Blvd., Suite 100, Raleigh, NC 27604. Active ingredient: Fluensulfone. Product type: Nematicide. Proposed use: Soybeans. Contact: RD

11. EPA registration numbers: 71711-30, 71711-31, 71711-36. Docket ID number: EPA-HQ-OPP-2020-0067. Applicant: Nichino America, Inc., 4550 Linden Hill Road, Suite 501, Wilmington, DE 19808. Active ingredient: Tolfenpyrad. Product type: Insecticide, Fungicide. Proposed use: Artichoke, globe. Contact: RD.

12. EPA registration numbers: 71711-37; 71711-38. Docket ID number: EPA-HQ-OPP-2020-0100. Applicant: Nichino America, Inc., 4550 Linden Hill Road, Suite 501, Wilmington, DE 19808. Active ingredient: Pyrifluquinazon. Product type: Insecticide. Proposed uses: Ornamental outdoor uses including residential areas. Contact: RD.

13. EPA registration numbers: 71711-4, 71711-18, 71711-19, 71711-40. Docket ID number: EPA-HQ-OPP-2019-0386. Applicant: Nichino America, Inc., 4550 Linden Hill Rd, Suite 501, Wilmington, DE 19808. Active ingredient: Fenpyroximate. Product type: Insecticide. Proposed uses: Peanut; Peanut, hay; and Tropical and subtropical, medium to large fruit, smooth, inedible peel subgroup 24B, except banana. Contact: RD.

Authority: 7 U.S.C. 136 et seq.

Dated: March 24, 2020.
Delores Barber,
Director, Information Technology and Resources Management Division, Office of Pesticide Programs.

[FR Doc. 2020-07042 Filed 4-2-20; 8:45 am]

BILLING CODE 6560-50-P